DEPARTMENT OF JUSTICE

Notice of Lodging of Proposed Consent Decree Under the System Unit Resource Protection Act

On March 8, 2023, the Department of Justice lodged a proposed Consent Decree with the United States District Court for the Southern District of West Virginia in the lawsuit entitled United States v. Wild Rock West Virginia, et al., Civil Action No. 2:21-cv-00341.

The United States filed this lawsuit under the System Unit Resource Protection Act and common law trespass and conversion. The complaint alleges that defendants Wild Rock West Virginia; Optima Properties WV, LLC; and William Frischkorn, Administrator of the Estate of Carl F. Frischkorn, (collectively “Defendants”) unlawfully cut trees and removed vegetation at the New River Gorge National Park and Preserve (the “Park”), near Fayetteville, West Virginia. The complaint seeks recovery of damages and response costs and injunctive relief.

Under the Consent Decree, Defendants will pay $152,000 to the U.S. Department of the Interior, National Park Service (“NPS”), for response costs and damages, with interest. In addition, Defendants will transfer an undeveloped 40-acre parcel of property adjacent to the Park to a local non-profit land trust for permanent conservation and recreational use. Further, Defendants will grant public access to a hiking and climbing-access trail on Wild Rock property. Finally, NPS will be given access to Wild Rock property for five years to conduct restoration activities near the sites of the tree-cutting.

The publication of this notice opens a period for public comment on the Consent Decree. Comments should be addressed to the Assistant Attorney General, Environment and Natural Resources Division, and should refer to United States v. Wild Rock West Virginia, et al., D.J. Ref. No. 90-11-3-12073. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $13.25 (25 cents per page reproduction cost) payable to the United States Treasury.

Jeffrey Sands,
Assistant Section Chief, Environmental Enforcement Section, Environment and Natural Resources Division.

[FR Doc. 2023-05130 Filed 3-13-23; 8:45 am]

BILLING CODE 4410-15-P